DEPARTMENT OF COMMERCE

National Oceanic and Atmospheric Administration

50 CFR Part 648

RTID 0648-XA339

Fisheries of the Northeastern United States; Summer Flounder Fishery; Quota Transfers From NC to MA and VA to RI

AGENCY: National Marine Fisheries Service (NMFS), National Oceanic and Atmospheric Administration (NOAA), Commerce.

ACTION: Notification of quota transfer.

SUMMARY: NMFS announces that the State of North Carolina is transferring a portion of its 2020 commercial summer flounder quota to the Commonwealth of Massachusetts. The Commonwealth of Virginia is also transferring a portion of its 2020 summer flounder quota to the State of Rhode Island. These quota adjustments are necessary to comply with the Summer Flounder, Scup, and Black Sea Bass Fishery Management Plan quota transfer provisions. This announcement informs the public of the revised commercial quotas for North Carolina, Massachusetts, Virginia, and Rhode Island.

DATES: Effective August 10, 2020, through December 31, 2020.

FOR FURTHER INFORMATION CONTACT: Laura Hansen, Fishery Management Specialist, (978) 281-9225.

SUPPLEMENTARY INFORMATION: Regulations governing the summer flounder fishery are found in 50 CFR 648.100 through 648.110. These regulations require annual specification of a commercial quota that is apportioned among the coastal states from Maine through North Carolina. The process to set the annual commercial quota and the percent allocated to each state is described in § 648.102 and final 2020 allocations were published on October 9, 2019 (84 FR 54041).

The final rule implementing Amendment 5 to the Summer Flounder Fishery Management Plan (FMP), as published in the Federal Register on December 17, 1993 (58 FR 65936), provided a mechanism for transferring summer flounder commercial quota from one state to another. Two or more states, under mutual agreement and with the concurrence of the NMFS Greater Atlantic Regional Administrator, can transfer or combine summer flounder commercial quota under § 648.102(c)(2). The Regional Administrator is required to consider three criteria in the evaluation of requests for quota transfers or combinations: The transfer or combinations would preclude the overall annual quota from being fully harvested, the transfer addresses an unforeseen variation or contingency in the fishery, and the transfer is consistent with the objectives of the FMP and the Magnuson-Stevens Act.

North Carolina is transferring 6,965 pounds (lb) (3,519 kilograms (kg)) to Massachusetts. Virginia is transferring 6,417 lb (2,911 kg) to Rhode Island. These transfers are occurring through mutual agreement of the states. These transfers were requested to repay landings made by out-of-state permitted vessels under safe harbor agreements. The revised summer flounder quotas for fishing year 2020 are now: North Carolina, 3,134,764 lb (1,421,905 kg); Massachusetts 793,364 lb (359,864 kg); Rhode Island, 1,814,665 lb (823,118 kg); and Virginia, 2,474,181 lb (1,122,269 kg).

Authority: 16 U.S.C. 1801 et seq.

Dated: August 6, 2020.
Jennifer M. Wallace,
Acting Director, Office of Sustainable Fisheries, National Marine Fisheries Service.

[FR Doc. 2020-17524 Filed 8-10-20; 8:45 am]

BILLING CODE 3510-22-P